ENVIRONMENTAL PROTECTION AGENCY

[OECA-2003-0002; FRL-7463-9]

Agency Information Collection Activities; Submission of EPA ICR No. 1891.03 (OMB No. 2060-0428) to OMB for Review and Approval; Comment Request

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: NESHAP for Publicly Owned Treatment Works (POTW) Facilities (40 CFR part 63, subpart VVV). (OMB Control No. 2060-0428, EPA ICR No. 1891.03) The ICR, which is abstracted below, describes the nature of the information collection and its estimated burden and cost.

DATES: Additional comments may be submitted on or before April 10, 2003.

ADDRESSES: Follow the detailed instructions in the SUPPLEMENTARY INFORMATION.

FOR FURTHER INFORMATION CONTACT: On the rule and technical questions: Bob Lucas, Emission Standards Division, Office of Air Quality Planning and Standards, Mail Code MD-13, (919) 541-0884, email address: lucas.bob@epa.gov. For questions about this ICR contact Walter Brodtman, Office of Enforcement and Compliance Assurance, Mail Code 2224A U.S. Environmental Protection Agency, 1200 Pennsylvania Ave., NW., Washington, DC 20460; telephone number: 202 564-4181; fax number: 202 564-0009; email address: brodtman.walter@epa.gov.

SUPPLEMENTARY INFORMATION: EPA has submitted the following ICR to OMB for review and approval according to the procedures prescribed in 5 CFR 1320.12. On June 20, 2002, EPA sought comments on this ICR pursuant to 5 CFR 1320.8(d). EPA received no comments.

EPA has established a public docket for this ICR under Docket ID No. 2003-0002, which is available for public viewing at the Enforcement and Compliance Docket Information Center (ECDIC) in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the ECDIC Docket is (202) 566-1752. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice, and according to the following detailed instructions: (1) Submit your comments to EPA online using EDOCKET (our preferred method), by e-mail to docket.oeca@epa.gov, or by mail to: EPA Docket Center, Environmental Protection Agency, Mail code: 2201T, 1200 Pennsylvania Ave., NW., Washington, DC 20460, and (2) Mail your comments to OMB at: Office of Information and Regulatory Affairs, Office of Management and Budget (OMB), Attention: Desk Officer for EPA, 725 17th Street, NW., Washington, DC 20503.

EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to www.epa.gov/edocket.

Title: NESHAP for Publicly Owned Treatment Works (POTW) Facilities (40 CFR part 63, subpart VVV). (OMB Control No. 2060-0428, EPA ICR Number 1891.03). This is a request to renew an existing approved collection that is scheduled to expire on February 28, 2003. Under the OMB regulations, the Agency may continue to conduct or sponsor the collection of information while this submission is pending at OMB.

Abstract: This ICR is prepared for a U.S. Environmental Protection Agency (EPA) rulemaking developed under authority of section 112 of the Clean Air Act (CAA). The rulemaking amends title 40, chapter I, part 63 of the Code of Federal Regulations (CFR) by adding a new subpart VVV—National Emission Standards for Hazardous Air Pollutants from Publicly Owned Treatment Works (POTW) Facilities. Hereafter, this subpart is referred to as the “POTW NESHAP”. The POTW NESHAP includes standards for major sources of hazardous air pollutants (HAP). Respondents are owners or operators of waste water treatment processes and operations in the POTW source category.

All new sources must be in compliance with the POTW NESHAP upon startup or the promulgation date, whichever is later. Owners and operators of affected sources are subject to the requirements of 40 CFR part 63, subpart A, the General Provisions, unless the regulation specifies otherwise.

For sources constructed or reconstructed after the effective date of the relevant standard, the POTW NESHAP requires that the source submit an application for approval of construction or reconstruction. The application is required to contain information on the air pollution control that will be used for each potential HAP emission point.

The information in the initial notification and the application for construction or reconstruction will enable enforcement personnel to identify the number of sources subject to the standards and to identify those sources that are already in compliance.

Generally, respondents are required to submit one-time reports of (1) start of construction for new facilities and (2) anticipated and actual start-up dates for new facilities. All records are to be maintained by the source for a period of at least 5 years.

The POTW NESHAP also requires affected sources to submit a notification of compliance status. This notification must be signed by a responsible company official who certifies its accuracy and certifies that the source has complied with the standards. The notification of compliance status must be submitted within 180 days after the compliance date for the affected source.

An agency may not conduct or sponsor, and a person is not required to respond to, a collection of information unless it displays a currently valid OMB control number. The OMB control numbers for EPA's regulations are listed in 40 CFR part 9 and 48 CFR chapter 15, and are identified on the form and/or instrument, if applicable.

Burden Statement: The annual public reporting and recordkeeping burden for this collection of information is estimated to average 36 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Publicly Owned Treatment Works (POTW) Facilities.

Estimated Number of Respondents: 6.

Frequency of Response: Annually.

Estimated Total Annual Hour Burden: 216 hours.

Estimated Total Annual Cost: $12,200.

Changes in the Estimates: There is an increase of 175 hours in the total estimated burden currently identified in the OMB Inventory of Approved ICR Burdens. This increase is because of additional respondents, which increased from one to six. Some reductions in burden also occurred because responses are now on an operating year rather than initial year basis.

Dated: February 27, 2003.
Oscar Morales,
Director, Collection Strategies Division.

[FR Doc. 03-5746 Filed 3-10-03; 8:45 am]

BILLING CODE 6560-50-P